ELECTION ASSISTANCE COMMISSION

Sunshine Act Notice

AGENCY: Election Assistance Commission.

ACTION: Notice of Public Meeting Agenda.

Date and Time: Tuesday, May 24, 2005, 10 a.m.-Noon.

Place: U.S. Election Assistance Commission, 1225 New York Ave., NW., Suite 1100, Washington, DC 20005 (Metro Stop: Metro Center).

Agenda: The Commission will receive the following reports: Title II Requirements Payments Update; Statewide Voter Registration List Guidance Update; Provisional Voting and Voter Identification Study Update; Election Day Survey Analysis Update; Military and Overseas Citizens Survey Update; California Audit Update; Voluntary Voting System Guidelines Update; and updates on other administrative matters. The Commission will receive presentations on the following topic: Setting an Effective Date for the Voluntary Voting System Guidelines.

This meeting will be open to the public.

* * * * *

Person to Contact for Information: Bryan Whitener, Telephone: (202) 566-3100.

* * * * *

Carol A. Paquette,
Interim Executive Director, U.S. Election Assistance Commission.

[FR Doc. 05-9939 Filed 5-13-05; 2:24 pm]

BILLING CODE 6820-YN-M